DEPARTMENT OF COMMERCE

International Trade Administration

[A-570-828; A-823-805]

Silicomanganese From the People's Republic of China and Ukraine: Continuation of the Antidumping Duty Orders

AGENCY: Enforcement and Compliance, International Trade Administration, Department of Commerce.

SUMMARY: As a result of determinations by the Department of Commerce (Commerce) and the International Trade Commission (ITC) that revocation of the antidumping duty (AD) orders on silicomanganese from the People's Republic of China (China) and Ukraine would likely lead to a continuation or recurrence of dumping and material injury to an industry in the United States, Commerce is publishing a notice of continuation of the AD orders on silicomanganese from China and Ukraine.

DATES: Applicable December 12, 2018.

FOR FURTHER INFORMATION CONTACT: Jonathan Cornfield, AD/CVD Operations, Office III, Enforcement and Compliance, International Trade Administration, U.S. Department of Commerce, 1401 Constitution Avenue NW, Washington, DC 20230; telephone: (202) 482-3855.

SUPPLEMENTARY INFORMATION:

Background

On October 4, 2017, Commerce published the notice of initiation of the fourth sunset reviews of the AD Orders,¹ pursuant to section 751(c) of the Tariff Act of 1930, as amended (the Act).² As a result of its reviews, Commerce determined that revocation of the AD Orders would likely lead to a continuation or recurrence of dumping and, therefore, notified the ITC of the magnitude of the margins of dumping likely to prevail should the orders be revoked.³ On December 6, 2018, the ITC published its determination, pursuant to sections 751(c) and 752 of the Act, that revocation of the AD Orders would likely lead to continuation or recurrence of material injury to an industry in the United States within a reasonably foreseeable time.⁴

¹ See Notice of Antidumping Duty Order: Silicomanganese from the People's Republic of China, 59 FR 66003 (December 22, 1994) and Suspension Agreement on Silicomanganese from Ukraine; Termination of Suspension Agreement and Notice of Antidumping Duty Order, 66 FR 43838 (August 21, 2001) (AD Orders).

² See Initiation of Five-Year (Sunset) Reviews, 82 FR 46221 (October 4, 2017).

³ See Silicomanganese from the People's Republic of China: Final Results of Expedited Fourth Sunset Reviews of the Antidumping Duty Orders, 83 FR 5609 (February 8, 2018). See also Silicomanganese from the People's Republic of China: Notice of Correction to the Final Results of the Expedited Fourth Sunset Review of the Antidumping Duty Order, 83 FR 17995 (April 25, 2018).

⁴ See Investigation No. 731-TA-672-673 (Fourth Review): Silicomanganese from China and Ukraine: 83 FR 62900 (December 6, 2018), and USITC Publication 4845 (November 2018).

Scope of the AD Orders

The merchandise covered by these orders is silicomanganese. Silicomanganese, which is sometimes called ferrosilicon manganese, is a ferroalloy composed principally of manganese, silicon, and iron, and normally contains much smaller proportions of minor elements, such as carbon, phosphorous and sulfur. Silicomanganese generally contains by weight not less than 4 percent iron, more than 30 percent manganese, more than 8 percent silicon and not more than 3 percent phosphorous. All compositions, forms and sizes of silicomanganese are included within the scope of these orders, including silicomanganese slag, fines and briquettes. Silicomanganese is used primarily in steel production as a source of both silicon and manganese.

Silicomanganese is currently classifiable under subheading 7202.30.0000 of the Harmonized Tariff Schedule of the United States (HTSUS). Some silicomanganese may also currently be classifiable under HTSUS subheading 7202.99.5040.⁵ The AD Orders cover all silicomanganese, regardless of its tariff classification. Although the HTSUS subheadings are provided for convenience and customs purposes, the written description of the AD Orders remains dispositive.

⁵ 7202.99.5040 is the applicable HTSUS statistical reporting prior to July 2, 2003. Effective July 2, 2003, the subject merchandise that would originally have entered under 7202.99.5040 now enters under 7202.99.8040.

Continuation of the Orders

As a result of the determinations by Commerce and the ITC that revocation of the AD Orders would likely lead to a continuation or recurrence of dumping and material injury to an industry in the United States, pursuant to section 751(d)(2) of the Act and 19 CFR 351.218(a), Commerce hereby orders the continuation of the AD Orders. U.S. Customs and Border Protection will continue to collect cash deposits at the rates in effect at the time of entry for all imports of subject merchandise.

The effective date of the continuation of the AD Orders will be the date of publication in the Federal Register of this notice of continuation. Pursuant to section 751(c)(2) of the Act, Commerce intends to initiate the next five-year review of this order not later than 30 days prior to the fifth anniversary of the effective date of continuation.

Administrative Protective Order

This notice also serves as the only reminder to parties subject to administrative protective order (APO) of their responsibility concerning the return/destruction or conversion to judicial protective order of proprietary information disclosed under APO in accordance with 19 CFR 351.305(a)(3). Failure to comply is a violation of the APO which may be subject to sanctions.

These five-year (sunset) reviews and this notice are in accordance with sections 751(c) and 751(d)(2) of the Act and published pursuant to section 777(i)(1) of the Act and 19 CFR 351.218(f)(4).

Dated: December 7, 2018.
Gary Taverman,
Deputy Assistant Secretary for Antidumping and Countervailing Duty Operations, performing the non-exclusive functions and duties of the Assistant Secretary for Enforcement and Compliance.

[FR Doc. 2018-26869 Filed 12-11-18; 8:45 am]

BILLING CODE 3510-DS-P